DEPARTMENT OF JUSTICE

Antitrust Division

Notice Pursuant to the National Cooperative Research and Production Act of 1993 —Commission on Massage Therapy Accreditation

Notice is hereby given that, on February 28, 2014, pursuant to Section 6(a) of the National Cooperative Research and Production Act of 1993, 15 U.S.C. 4301 et seq. (“the Act”), Commission on Massage Therapy Accreditation (“COMTA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Commission on Massage Therapy Accreditation, Washington, DC. The nature and scope of COMTA's standards development activities are: developing, planning, establishing, coordinating, and publishing accreditation standards for both educational institutions and programs offering instruction in massage therapy and bodywork or esthetics and skin care and curriculum standards development as part of the Coalition of National Massage Therapy Organizations. Specifically, COMTA developed, planned, established, coordinated, and published voluntary consensus standards in the form of basic standards for the entry-level curriculum necessary for safe and competent practice in an early massage career and the number of hours required to teach the essential components of the entry-level curriculum. COMTA developed and published these standards in cooperation with the Alliance for Massage Therapy Education, the American Massage Therapy Association, Associated Bodywork & Massage Professionals, the Federation of State Massage Therapy Boards, the Massage Therapy Foundation, and the National Certification Board for Therapeutic Massage & Bodywork.

Through its standards development activities, COMTA seeks to ensure the highest quality of training and education in massage therapy. COMTA's standards development activities are ongoing in nature, and existing standards may be updated and/or amended from time to time.

Patricia A. Brink,
Director of Civil Enforcement, Antitrust Division.

[FR Doc. 2014-08522 Filed 4-14-14; 8:45 am]

BILLING CODE P